DEPARTMENT OF ENERGY

Federal Energy Regulatory Commission

[Docket No. EF05-4011-000, et al.]

Southwestern Power Administration, et al.; Electric Rate and Corporate Filings

November 23, 2004.

The following filings have been made with the Commission. The filings are listed in ascending order within each docket classification.

1. Southwestern Power Administration

[Docket No. EF05-4011-000]

Take notice that on November 17, 2004, the Deputy Secretary, U.S. Department of Energy, submitted to the Federal Energy Regulatory Commission for confirmation and approval on a final basis, pursuant to the authority vested in the Commission by Delegation Order Nos. 00-037.00, effective December 6, 2001, and 00-001-00A, effective September 17, 2002, the following Southwestern Power Administration (Southwestern) Integrated System rate schedules:

Rate Schedule P-04, Wholesale Rates for Hydro Peaking Power.

Rate Schedule NFTS-04, Wholesale Rates for Non-Federal Transmission/Interconnection Facilities Service.

Rate Schedule EE-04, Wholesale Rate for Excess Energy.

The Integrated System (System) rate schedules were confirmed and approved on an interim basis by the Deputy Secretary in Rate Order No. SWPA-51 for the period January 1, 2005, through September 30, 2008, and have been submitted to the FERC for confirmation and approval on a final basis for the same period. The System rates will increase the annual revenue from $114,973,800 to $123,549,964 primarily to recover increased expenditures in operation and maintenance (O&M) and investment. The total annual revenue increase will be $8,576,164, or 7.5 percent effective January 1, 2005.

In addition, the PRS indicates the need for an annual increase of $737,300 in revenues received through the Purchased Power Adder to recover increased purchased energy costs. Southwestern has continued the rate structure that conforms with the intent of the FERC's Order No. 888; consequently, the actual rate impact on each customer will vary based on the type of service requested and provided. The proposal also includes a continuation of the Administrator's Discretionary Purchased Power Adder Adjustment, to adjust the purchased power adder annually up to $0.0011 per kilowatthour as necessary, under a formula-type rate, with notification to the FERC.

Comment Date: 5 p.m. eastern time on December 8, 2004.

2. Southwestern Power Administration

[Docket No. EF05-4021-000]

Take notice that on November 17, 2004, the Deputy Secretary, U.S. Department of Energy submitted to the Federal Energy Regulatory Commission (FERC) for confirmation and approval on a final basis, pursuant to the authority vested in the FERC by Delegation Order Nos. 00-037.00, effective December 6, 2001, and 00-001.00A, effective September 17, 2002, an annual power rate of $2,513,700 for the sale of power and energy by the Southwestern Power Administration (Southwestern) from the Sam Rayburn Dam Project (Rayburn) to Sam Rayburn Dam Electric Cooperative, Inc. (SRDEC). The rate was confirmed and approved on an interim basis by the Deputy Secretary in Rate Order No. SWPA-52 for the period January 1, 2005, through September 30, 2008, and has been submitted to FERC for confirmation and approval on a final basis for the same period. The annual rate of $2,513,700 is based on the 2004 Revised Power Repayment Study for Rayburn and represents an annual increase in revenue of $500,676, or 24.9 percent, the lowest possible rate required to meet cost recovery criteria.

This rate supersedes the annual power rate of $2,013,024, which FERC approved on a final basis January 31, 2003, under Docket No. EF02-4021-000 for the period October 1, 2002, through September 30, 2006.

Comment Date: 5 p.m. eastern time on December 8, 2004.

3. NRG Energy, Inc.

[Docket No. EL05-28-000]

Take notice that on November 22, 2004, NRG Energy, Inc. (NRG) filed with the Commission a request for a declaratory order finding that NRG is not a public utility, and is not subject to the requirements of section 204 of the Federal Power Act.

Comment Date: 5 p.m. eastern time on December 6, 2004.

4. Idaho Power Company

[Docket No. ER97-1481-006]

Take notice that on November 16, 2004, Idaho Power Company submitted a compliance filing pursuant to the Commission's November 17, 2003, Order Amending Market-Based Rate Tariffs and Authorizations in Dockets No. EL01-118-000 et al., Investigation of Terms and Conditions of Public Utility Market-Based Rate Authorizations, 105 FERC ¶ 61,218 (2003), order on reh'g, 107 FERC ¶ 61,175 (2004).

Idaho Power Company states that copies of this filing were served on all parties to this proceeding.

Comment Date: 5 p.m. eastern time on December 7, 2004.

5. Sierra Pacific Power Company, Nevada Power Company

[Docket Nos. ER01-1527-005 and ER01-1529-005]

Take notice that on November 12, 2004, Sierra Pacific Power Company (SPP) and Nevada Power Company (NPC), tendered for filing an amendment to their October 28, 2004 filing of an updated market power analysis.

Comment Date: 5 p.m. eastern time on December 3, 2004

6. PPL Southwest Generation Holdings, LLC

[Docket No. ER01-1870-004]

Take notice that on November 17, 2004, PPL Southwest Generation Holdings, LLC (PPL Southwest Generation) submitted an amendment to its October 25, 2004, filing in Docket No. ER01-1870-003 of a supplement to its updated market power analysis filed on July 12, 2004.

PPL Southwest Generation states that copies of the filing were served on parties on the official service list in the above-captioned proceeding.

Comment Date: 5 p.m. eastern time on December 8, 2004.

7. California Electric Marketing, LLC

[Docket No. ER01-2690-003]

Take notice that on November 17, 2004, California Electric Marketing, LLC, (CalEM) submitted for filing a supplement to its November 1, 2004, filing amending its triennial updated market analysis and submitting revised Rate Schedule FERC No. 1 to incorporate the Market Behavior Rules.

Comment Date: 5 p.m. eastern time on December 8, 2004.

8. Walden Energy, LLC

[Docket No. ER05-66-001]

Take notice that on November 16, 2004, Walden Energy, LLC, (Walden) filed an amendment to its petition filed October 25, 2004, in Docket No. ER05-66-000 for acceptance of Walden Rate Schedule FERC No. 1; the granting of certain blanket approvals, including the authority to sell electricity at market-based rates; and the waiver of certain Commission regulations.

Comment Date: 5 p.m. eastern time on December 7, 2004.

9. Midwest Independent Transmission System Operator, Inc.

[Docket No. ER05-221-000]

Take notice that on November 16, 2004, the Midwest Independent Transmission System Operator, Inc. (Midwest ISO) submitted an Interconnection and Operating Agreement among JJN Wind Farm LLC, Northern States Power Company d/b/a Xcel Energy and the Midwest ISO.

Midwest ISO states that a copy of this filing was served on JJN Wind Farm LLC and Northern States Power Company d/b/a Xcel Energy.

Comment Date: 5 p.m. eastern time on December 7, 2004.

10. Diablo Winds, LLC

[Docket No. ER05-222-000]

Take notice that on November 16, 2004, Diablo Winds, LLC tendered for filing an Application for Market Based Rate Authority. Diablo Winds, LLC states that it owns and will operate a wind-powered electric generation facility with a nameplate capacity of up to 18 MW.

Diablo Winds, LLC states that a copy of the filing was served upon the Florida Public Service Commission.

Comment Date: 5 p.m. eastern time on December 7, 2004.

11. Wisconsin Public Service Corporation

[Docket No. ER05-223-000]

Take notice that on November 16, 2004, Wisconsin Public Service Corporation (WPSC) tendered for filing an executed Generation Maintenance and Power Exchange Transaction Specifications between WPSC and Manitowoc Public Utilities (MPU) designated as Service Agreement No. 63 under WPSC's FERC Electric Tariff, First Revised Volume No. 5. WPSC requests an effective date of November 15, 2004.

WPSC states that copies of the filing were served upon MPU, the Public Service Commission of Wisconsin and the Michigan Public Service Commission.

Comment Date: 5 p.m. eastern time on December 7, 2004.

12. California Independent System Operator Corporation

[Docket No. ER05-224-000]

Take notice that on November 16, 2004, the California Independent System Operator Corporation (California ISO) tendered for filing a “nonconforming” Dynamic Scheduling Agreement between the California ISO and Mirant Americas Energy Marketing, LP (Mirant). California ISO requests an effective date of November 17, 2004.

California ISO states that this filing has been served on Mirant, the California Public Utilities Commission, and the California Electricity Oversight Board.

Comment Date: 5 p.m. eastern time on December 7, 2004.

13. PSI Energy, Inc.

[Docket No. ER05-225-000]

Take notice that on November 17, 2004, PSI Energy, Inc. (PSI) tendered for filing an uncontested agreement for a three-step increase in PSI's wholesale electric rates with (1) Indiana Municipal Power Agency, (2) Wabash Valley Power Association, Inc., (3) Indiana Municipal Electric Association, Inc., as agent for and on behalf of the wholesale customers receiving service under PSI's Rate MUN, and (4) Logansport Municipal Utilities of the City of Logansport, Indiana.

PSI states that copies were served on the affected customers and the Indiana Utility Regulatory Commission.

Comment Date: 5 p.m. eastern time on December 7, 2004.

14. American Electric Power Service Corporation

[Docket No. ER05-226-000]

Take notice that on November 17, 2004, American Electric Power Service Corporation (AEPSC) submitted for filing, on behalf of Public Service Company of Oklahoma (PSO), an agreement that provides for PSO to continue its interconnections with Grand River Dam Authority (GRDA), to add certain additional delivery points to the agreement and to delete energy service schedules from that agreement. AEPSC seeks an effective date of December 1, 2004.

AEPSC states that it has served copies of the filing on GRDA.

Comment Date: 5 p.m. eastern time on December 8, 2004.

15. PacifiCorp

[Docket No. ER05-227-000]

Take notice that on November 17, 2004, PacifiCorp tendered for filing Revisions to Appendices A, B and E of the Restated Transmission Service and Operating Agreement, PacifiCorp's First Revised FERC Rate Schedule No. 297, between PacifiCorp and Utah Associated Municipal Power Systems (UAMPS). PacifiCorp requests an effective date of December 1, 2004.

PacifiCorp states that copies of this filing were supplied to the Public Utility Commission of Oregon, the Washington Utilities and Transportation Commission, and UAMPS.

Comment Date: 5 p.m. eastern time on December 8, 2004.

16. Virginia Electric and Power Company

[Docket No. ER05-228-000]

Take notice that on November 17, 2004, Virginia Electric and Power Company (Dominion Virginia Power ) tendered for filing a Service Agreement for Network Integration Transmission Service (Retail), and a Network Operating Agreement (Retail) by Dominion Virginia Power to WPS Energy Services, Inc., designated as Service Agreement Number 393, under the Dominion Virginia Power's Open Access Transmission Tariff, FERC Electric Tariff, Second Revised Volume No. 5. Dominion Virginia Power requests an effective date of October 22, 2004.

Comment Date: 5 p.m. eastern time on December 8, 2004.

17. Pacific Gas and Electric Company

[Docket No. ER05-229-000]

Take notice that on November 17, 2004, Pacific Gas and Electric Company (PG&E) submitted the Scheduling Coordinator Services Tariff for the Western Area Power Administration (WAPA). PG&E states that under this Tariff, PG&E seeks to collect from the WAPA the costs PG&E or its designated Scheduling Coordinator incur on behalf of WAPA acting as WAPA's Scheduling Coordinator. PG&E requests an effective date of December 31, 2004.

PG&E states that copies of this filing have been served upon the California Public Utilities Commission, the California Independent System Operator Corporation and the Western Area Power Administration.

Comment Date: 5 p.m. eastern time on December 8, 2004.

18. Ameren Services Company

[Docket No. ER05-230-000]

Take notice that on November 17, 2004, Ameren Services Company (Ameren), as designated agent for Union Electric Company and Central Illinois Public Service Company, filed a Notice of Cancellation of the Interconnection Agreement and Parallel Operating Agreement by and between Kinder Morgan Missouri, LLC and Ameren Services Company. Ameren requests an effective date of November 1, 2004.

Comment Date: 5 p.m. eastern time on December 8, 2004.

19. PSEG Power Connecticut LLC

[Docket No. ER05-231-000]

Take notice that on November 17, 2004, PSEG Power Connecticut LLC (Power Connecticut) submitted for filing Reliability Must Run Agreements (Agreements) between Power Connecticut and ISO New England Inc. (ISO-NE). Connecticut Power states that the Agreements provide the charges associated with the provision of reliability services by Power Connecticut to ISO-NE from two generation plants in Connecticut: (1) The New Haven Harbor Generating Station; and, (2) the Bridgeport Harbor Generating Station, Unit 2. Power Connecticut requests an effective date of November 18, 2004.

Comment Date: 5 p.m. eastern time on December 8, 2004.

20. PJM Interconnection, L.L.C.

[Docket No. RT01-2-016]

Take notice that on November 17, 2004, PJM Interconnection, L.L.C. (PJM) submitted a compliance filing pursuant to the Commission's order issued October 18, 2004, in Docket No. RT01-2-011, et al., 109 FERC ¶ 61,067.

PJM states that copies of this filing have been served on all parties, as well as on all PJM Members and the state electric utility regulatory commissions in the PJM region.

Comment Date: 5 p.m. eastern time on December 8, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3562 Filed 12-7-04; 8:45 am]

BILLING CODE 6717-01-P